DEPARTMENT OF STATE

[Delegation of Authority No. 282]

Delegation by the Secretary of State to the Legal Adviser and the Deputy Legal Advisers of Authority To Refer Claims

By virtue of the authority vested in me as Secretary of State by the laws of the United States, including Section 1 of the State Department Basic Authorities Act of 1956, as amended (22 U.S.C. 2651a), I hereby delegate to the Legal Adviser and the Deputy Legal Advisers the function vested in the Secretary of State by 22 U.S.C. 1623(a)(1)(C), which relates to the referral to the Foreign Claims Settlement Commission of categories of claims against foreign governments.

The authority covered by this delegation may also be exercised by the Secretary of State or the Deputy Secretary of State.

This delegation of authority shall be published in the Federal Register.

Dated: July 15, 2005.
Condoleezza Rice,
Secretary of State, Department of State.

[FR Doc. 05-14870 Filed 7-26-05; 8:45 am]

BILLING CODE 4710-08-P